FEDERAL RETIREMENT THRIFT INVESTMENT BOARD

Senior Executive Service Performance Review Board

AGENCY: Federal Retirement Thrift Investment Board.

ACTION: Notice.

SUMMARY: This notice announces the appointment of the members of the Senior Executive Service Performance Review Boards for the Federal Retirement Thrift Investment Board. The purpose of the Performance Review Boards is to make written recommendations on annual summary ratings and awards to the appointing authorities on the performance of senior executives.

DATES: This notice is effective October 14, 2015.

FOR FURTHER INFORMATION CONTACT: Kelly Powell, HR Specialist, at 202-942-1681.

SUPPLEMENTARY INFORMATION: Title 5, U.S. Code, 4314(c)(4), requires that the appointment of Performance Review Board members be published in the Federal Register before Board service commences. The following persons will serve on the Federal Retirement Thrift Investment Board's Performance Review Boards which will review initial summary ratings to ensure the ratings are consistent with established performance requirements, reflect meaningful distinctions among senior executives based on their relative performance and organizational results and provide recommendations for ratings, awards, and pay adjustments in a fair and equitable manner: Jay Ahuja, Scott Cragg, Susan Crowder, Ravindra Deo, Gisile Goethe, and Kim Weaver.

James B. Petrick,
General Counsel, Federal Retirement Thrift Investment Board.

[FR Doc. 2015-26469 Filed 10-16-15; 8:45 am]

BILLING CODE 6760-01-P